NATIONAL SCIENCE FOUNDATION

45 CFR Part 670

RIN 3145-AA63

Conservation of Antarctic Animals and Plants; Correction

AGENCY: National Science Foundation.

ACTION: Final rule; correction.

SUMMARY: This document corrects the Regulation Identification Number that appeared in a final rule published in the Federal Register on May 25, 2021, regarding changes to changes to Annex II to the Protocol on Environmental Protection to the Antarctic Treaty (Protocol) agreed to by the Antarctic Treaty Consultative Parties.

DATES: This final rule correction is effective October 1, 2021.

FOR FURTHER INFORMATION CONTACT: Bijan Gilanshah, Assistant General Counsel, Office of the General Counsel, at 703-292-8060, National Science Foundation, 2415 Eisenhower Avenue, W 18200, Alexandria, VA 22314.

SUPPLEMENTARY INFORMATION:

Correction

In final rule FR Doc. 2021-10807, beginning on page 27985 in the issue of May 25, 2021, make the following correction: On page 27985, in the third column, the Regulation Identifier Number is corrected to read “RIN 3145-AA63.”

Dated: September 28, 2021.
Suzanne H. Plimpton,
Reports Clearance Officer, National Science Foundation.

[FR Doc. 2021-21365 Filed 9-30-21; 8:45 am]

BILLING CODE 7555-01-P